DEPARTMENT OF JUSTICE

Office of Justice Programs

[OMB Number 1121-0330]

Agency Information Collection Activities; Proposed eCollection eComments Requested; Extension Without Change, of a Previously Approved Collection Law Enforcement Congressional Badge of Bravery

AGENCY: Bureau of Justice Assistance, Office of Justice Programs, Department of Justice.

ACTION: 60-Day notice.

SUMMARY: BJA's CBOB Office will use the CBOB nomination information to confirm the eligibility of nominees that are to be considered for the CBOB, and will make the nominations available to the Federal or the State and Local CBOB Board as appropriate, for their consideration.

DATES: The Department of Justice encourages public comment and will accept input until April 3, 2020.

FOR FURTHER INFORMATION CONTACT: If you have additional comments especially on the estimated public burden or associated response time, suggestions, or need a copy of the proposed information collection instrument with instructions or additional information, please contact Gregory Joy, Policy Advisor, Office of Justice Programs, Bureau of Justice Assistance, 810 Seventh Street NW, Washington, DC 20531, Gregory.joy@usdoj.gov, 202-514-1369.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Law Enforcement Congressional Badge of Bravery (Pub. L. 110-298).

3. The agency form number, if any, and the applicable component of the Department sponsoring the collection: The nomination process is managed through the internet, using the Office of Justice Programs' (OJP) CBOB online nomination system at: www.bja.gov/CBOB

4. Affected public who will be asked or required to respond, as well as a brief abstract:The information that is being collected under Public Law No: 110-298, is solicited from federal, state, local and tribal law enforcement agencies, who wish to nominate their personnel to receive the Law Enforcement Congressional Badge of Bravery (CBOB). This information is provided on a voluntary basis, and includes he agency and nominee information along with details about the events for which the nominees are to be considered when determining which nominees will be recommended to receive the CBOB.

5. An estimate of the total number of respondents and the amount of time estimated for an average respondent to respond: An estimated 160 nominations annually.

6. An estimate of the total public burden (in hours) associated with the collection: The estimated public burden associated with this collection is 66 hours.

If additional information is required contact: Melody D. Braswell, Department Clearance Officer, United States Department of Justice, Justice Management Division, Policy and Planning Staff, Two Constitution Square, 145 N Street NE, 3E.405A, Washington, DC 20530.

Dated: January 28, 2020.
Melody D. Braswell,
Department Clearance Officer for PRA, U.S. Department of Justice.

[FR Doc. 2020-01918 Filed 1-31-20; 8:45 am]

BILLING CODE 4410-BA-P